DEPARTMENT OF ENERGY

Federal Energy Regulatory Commission

[Docket No. RD14-7-000]

North American Electric Reliability Corporation, Errata Notice

On June 19, 2014, the Commission issued an “Order Approving Reliability Standard” in the above-captioned proceeding. North American Electric Reliability Corporation, 147 FERC ¶ 61,226 (2014) (June 19 Order). Subsequently, on August 29, 2014, the Commission issued a “Commission Information Collection Activities (FERC-725Y); Comment Request” associated with approval of the June 19 Order. (August 29 Comment Request).

This errata notice serves to correct paragraphs 32 and 33 of the June 19 Order, and to make corresponding corrections in the August 29 Comment Request. In paragraph 32 of the June 19 Order, the phrase “approximately 387 entities” is deleted and replaced with the phrase “no more than 1,266 entities” so that the last sentence of paragraph 32 reads as follows:

“The number of unique entities responding will be no more than 1,266 entities registered as a reliability coordinator, balancing authority, transmission operator, transmission owner, or generator operator.”

The same correction is made in the paragraph titled “Estimate of Annual Burden ³” of the August 29 Comment Request.

In addition, the second (non-heading) row of the chart in paragraph 33 of the June 19 Order labelled “(One-time) Development of a training program [R5]” is deleted and replaced with the following:

“(One-Time) Development of a training program [R5—13 hrs.] & (on-going) record retention [M5 and C.1.2—2 hrs.].”

The same correction is made to the chart following the paragraph titled “Estimate of Annual Burden ³” of the August 29 Comment Request.

Dated: September 25, 2014.
Nathaniel J. Davis, Sr.,
Deputy Secretary.

[FR Doc. 2014-23427 Filed 10-1-14; 8:45 am]

BILLING CODE 6717-01-P